DEPARTMENT OF TRANSPORTATION

Federal Aviation Administration

14 CFR Part 97

[Docket No. 30785; Amdt. No. 3428]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 16, 2011. The compliance date for each SIAP, associated Takeoff Minimums, and ODP is specified in the amendatory provisions.

The incorporation by reference of certain publications listed in the regulations is approved by the Director of the Federal Register as of June 16, 2011.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 27, 2011.
Ray Towles,
Deputy Director, Flight Standards Service.

Adoption Of The Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 30 JUN 2011

St. Paul Island, AK, St. Paul Island, ILS OR LOC/DME RWY 36, Amdt 3A

Talladega, AL, Talladega Muni, ILS or LOC/DME RWY 3, Orig

Talladega, AL, Talladega Muni, RNAV (GPS) RWY 3, Amdt 1

Talladega, AL, Talladega Muni, RNAV (GPS) RWY 21, Amdt 1

Telluride, CO, Telluride Rgnl, LOC/DME RWY 9, Amdt 2

Telluride, CO, Telluride Rgnl, Takeoff Minimums and Obstacle DP, Amdt 2

Telluride, CO, Telluride Rgnl, VOR/DME-A, Amdt 1

Venice, FL, Venice Muni, RNAV (GPS) RWY 13, Amdt 1

Venice, FL, Venice Muni, RNAV (GPS) RWY 31, Amdt 1

Atlanta, GA, Dekalb-Peachtree, RNAV (RNP) RWY 2R, Amdt 1

Cornelia, GA, Habersham County, NDB RWY 6, Amdt 2

Cornelia, GA, Habersham County, RNAV (GPS) RWY 6, Amdt 1

Cornelia, GA, Habersham County, RNAV (GPS) RWY 24, Amdt 1

Thomson, GA, Thomson-McDuffie County, ILS OR LOC/NDB RWY 10, Amdt 1

Thomson, GA, Thomson-McDuffie County, NDB RWY 10, Amdt 1

Thomson, GA, Thomson-McDuffie County, RNAV (GPS) RWY 10, Orig

Thomson, GA, Thomson-McDuffie County, RNAV (GPS) RWY 28, Orig

Thomson, GA, Thomson-McDuffie County, VOR/DME-A, Amdt 4

Centerville, IA, Centerville Muni, NDB OR GPS RWY 16, Amdt 1B, CANCELLED

Centerville, IA, Centerville Muni, NDB OR GPS RWY 34, Amdt 1B, CANCELLED

Creston, IA, Creston Muni, RNAV (GPS) RWY 16, Amdt 1

Creston, IA, Creston Muni, RNAV (GPS) RWY 34, Amdt 1

Mason City, IA, Mason City Muni, RNAV (GPS) RWY 18, Amdt 2

Mason City, IA, Mason City Muni, RNAV (GPS) RWY 30, Amdt 1

Mason City, IA, Mason City Muni, RNAV (GPS) RWY 36, Amdt 1

Dixon, IL, Dixon Muni-Charles R. Walgreen Field, Takeoff Minimums and Obstacle DP, Amdt 3

Burlington, KS, Coffey County, GPS RWY 18, Orig, CANCELLED

Burlington, KS, Coffey County, GPS RWY 36, Orig, CANCELLED

Burlington, KS, Coffey County, RNAV (GPS) RWY 18, Orig

Burlington, KS, Coffey County, RNAV (GPS) RWY 36, Orig

Lawrence, MA, Lawrence Muni, ILS OR LOC Y RWY 5, Amdt 4

Lawrence, MA, Lawrence Muni, ILS OR LOC Z RWY 5, Orig

Lawrence, MA, Lawrence Muni, NDB RWY 5, Amdt 6

Lawrence, MA, Lawrence Muni, RNAV (GPS) RWY 5, Orig

Lawrence, MA, Lawrence Muni, RNAV (GPS) RWY 23, Orig

Lawrence, MA, Lawrence Muni, VOR RWY 23, Amdt 11

Frederick, MD, Frederick Muni, Takeoff Minimums and Obstacle DP, Amdt 3

Augusta, ME, Augusta State, Takeoff Minimums and Obstacle DP, Amdt 3

Minneapolis, MN, Flying Cloud, RNAV (GPS) RWY 28L, Amdt 1

Rochester, MN, Rochester Intl, RNAV (GPS) RWY 2, Amdt 2

Rochester, MN, Rochester Intl, RNAV (GPS) RWY 20, Amdt 1

Rochester, MN, Rochester Intl, VOR/DME RWY 20, Amdt 14

Two Harbors, MN, Richard B Helgeson, GPS RWY 24, Orig, CANCELLED

Two Harbors, MN, Richard B Helgeson, RNAV (GPS) RWY 6, Orig

Two Harbors, MN, Richard B Helgeson, RNAV (GPS) RWY 24, Orig

Olive Branch, MS, Olive Branch, LOC/DME RWY 36, Orig

Kenansville, NC, Duplin County, GPS RWY 5, Orig-B, CANCELLED

Kenansville, NC, Duplin County, GPS RWY 23, Orig-B, CANCELLED

Kenansville, NC, Duplin County, LOC/NDB RWY 23, Amdt 1

Kenansville, NC, Duplin County, RNAV (GPS) RWY 5, Orig

Kenansville, NC, Duplin County, RNAV (GPS) RWY 23, Orig

Salisbury, NC, Rowan County, ILS OR LOC RWY 20, Amdt 1

Salisbury, NC, Rowan County, NDB RWY 20, Amdt 1

Salisbury, NC, Rowan County, RNAV (GPS) RWY 2, Amdt 1

Salisbury, NC, Rowan County, RNAV (GPS) RWY 20, Amdt 1

Salisbury, NC, Rowan County, Takeoff Minimums and Obstacle DP, Amdt 1

Hillsboro, ND, Hillsboro Muni, RNAV (GPS) RWY 16, Amdt 1

Hillsboro, ND, Hillsboro Muni, RNAV (GPS) RWY 34, Amdt 1

Beatrice, NE, Beatrice Muni, RNAV (GPS) RWY 14, Amdt 1

Beatrice, NE, Beatrice Muni, RNAV (GPS) RWY 18, Amdt 2

Beatrice, NE, Beatrice Muni, RNAV (GPS) RWY 32, Amdt 1

Beatrice, NE, Beatrice Muni, RNAV (GPS) RWY 36, Amdt 2

Beatrice, NE, Beatrice Muni, VOR RWY 14, Amdt 18

Beatrice, NE, Beatrice Muni, VOR RWY 18, Amdt 2

Beatrice, NE, Beatrice Muni, VOR RWY 36, Amdt 9

Central City, NE, Central City Muni-Larry Reineke Field, RNAV (GPS) RWY 16, Orig

Central City, NE, Central City Muni-Larry Reineke Field, RNAV (GPS) RWY 34, Orig

Central City, NE, Central City Muni-Larry Reineke Field, Takeoff Minimums and Obstacle DP, Orig

Millville, NJ, Millville Muni, ILS OR LOC RWY 10, Amdt 2

Brockport, NY, Ledgedale Airpark, RNAV (GPS) RWY 28, Amdt 1

Schenectady, NY, Schenectady County, GPS RWY 22, Orig-D, CANCELLED

Schenectady, NY, Schenectady County, GPS RWY 28, Orig-B, CANCELLED

Schenectady, NY, Schenectady County, ILS OR LOC RWY 4, Amdt 5

Schenectady, NY, Schenectady County, NDB RWY 22, Amdt 16

Schenectady, NY, Schenectady County, RNAV (GPS) RWY 4, Orig

Schenectady, NY, Schenectady County, RNAV (GPS) RWY 10, Orig

Schenectady, NY, Schenectady County, RNAV (GPS) RWY 22, Orig

Schenectady, NY, Schenectady County, RNAV (GPS) RWY 28, Orig

Watertown, NY, Watertown Intl, RNAV (GPS) RWY 10, Orig

Watertown, NY, Watertown Intl, RNAV (GPS) RWY 28, Orig

Beaver Falls, PA, Beaver County, RNAV (GPS) RWY 10, Orig

Beaver Falls, PA, Beaver County, RNAV (GPS) RWY 28, Orig

Beaver Falls, PA, Beaver County, VOR RWY 28, Amdt 10

Lehighton, PA, Jake Arner Memorial, RNAV (GPS) RWY 8, Amdt 1A

Lehighton, PA, Jake Arner Memorial, RNAV (GPS) RWY 26, Amdt 1A

Philadelphia, PA, Philadelphia Intl, CONVERGING ILS RWY 17, Amdt 6

Philadelphia, PA, Philadelphia Intl, ILS OR LOC RWY 17, Amdt 8

Philadelphia, PA, Philadelphia Intl, RNAV (GPS) RWY 17, Amdt 3

Philadelphia, PA, Philadelphia Intl, RNAV (GPS) RWY 35, Amdt 3

York, PA, York, NDB RWY 17, Amdt 7

York, PA, York, RNAV (GPS) RWY 17, Amdt 2

York, PA, York, RNAV (GPS) RWY 35, Amdt 1

Gettysburg, SD, Gettysburg Muni, RNAV (GPS) RWY 13, Amdt 1

Gettysburg, SD, Gettysburg Muni, RNAV (GPS) RWY 31, Amdt 1

Mobridge, SD, Mobridge Muni, NDB RWY 12, Amdt 2, CANCELLED

Mobridge, SD, Mobridge Muni, RNAV (GPS) RWY 30, Amdt 1

Mobridge, SD, Mobridge Muni, Takeoff Minimums and Obstacle DP, Amdt 1

Spearfish, SD, Black Hills-Clyde Ice Field, GPS RWY 12, Orig-D, CANCELLED

Spearfish, SD, Black Hills-Clyde Ice Field, NDB-A, Amdt 1

Spearfish, SD, Black Hills-Clyde Ice Field, RNAV (GPS) RWY 13, Orig

Spearfish, SD, Black Hills-Clyde Ice Field, RNAV (GPS) RWY 31, Orig

Sturgis, SD, Sturgis Muni, GPS RWY 29, Orig-A, CANCELLED

Sturgis, SD, Sturgis Muni, RNAV (GPS) RWY 11, Orig

Sturgis, SD, Sturgis Muni, RNAV (GPS) RWY 29, Orig

Sturgis, SD, Sturgis Muni, Takeoff Minimums and Obstacle DP, Amdt 1

Dyersburg, TN, Dyersburg Rgnl, RNAV (GPS) RWY 4, Amdt 2

Dyersburg, TN, Dyersburg Rgnl, RNAV (GPS) RWY 22, Amdt 1

Dyersburg, TN, Dyersburg Rgnl, VOR-A, Amdt 18

Dyersburg, TN, Dyersburg Rgnl, VOR/DME RWY 4, Amdt 4

Memphis, TN, General Dewitt Spain, GPS RWY 17, Orig-A, CANCELLED

Memphis, TN, General Dewitt Spain, RNAV (GPS) RWY 17, Orig

Morristown, TN, Moore-Murrell, NDB RWY 5, Amdt 5

Morristown, TN, Moore-Murrell, RNAV (GPS) RWY 5, Orig

Morristown, TN, Moore-Murrell, RNAV (GPS) RWY 23, Orig

Morristown, TN, Moore-Murrell, SDF RWY 5, Amdt 5

Waverly, TN, Humphreys County, RNAV (GPS) RWY 3, Orig

Waverly, TN, Humphreys County, RNAV (GPS) RWY 21, Orig

Wendover, UT, Wendover, RNAV (GPS) RWY 8, Orig

Wendover, UT, Wendover, RNAV (GPS)-C, Orig

Waynesboro, VA, Eagle's Nest, RNAV (GPS) RWY 6, Orig

Waynesboro, VA, Eagle's Nest, RNAV (GPS) RWY 24, Orig

Highgate, VT, Franklin County State, RNAV (GPS) RWY 1, Amdt 3

Highgate, VT, Franklin County State, RNAV (GPS) RWY 19, Amdt 1

Highgate, VT, Franklin County State, Takeoff Minimums and Obstacle DP, Amdt 1

Highgate, VT, Franklin County State, VOR/DME RWY 19, Amdt 5

Springfield, VT, Hartness State (Springfield), Takeoff Minimums and Obstacle DP, Amdt 3

Ladysmith, WI, Rusk County, NDB RWY 32, Amdt 3

Ladysmith, WI, Rusk County, RNAV (GPS) RWY 14, Orig

Ladysmith, WI, Rusk County, RNAV (GPS) RWY 32, Orig

Marshfield, WI, Marshfield Muni, NDB RWY 5, Amdt 14

Marshfield, WI, Marshfield Muni, NDB RWY 16, Amdt 10

Milwaukee, WI, General Mitchell Intl, ILS OR LOC RWY 19R, Amdt 11

Milwaukee, WI, General Mitchell Intl, RNAV (GPS) RWY 19R, Amdt 1

Milwaukee, WI, General Mitchell Intl, RNAV (GPS) Y RWY 19R, Orig, CANCELLED

Sparta, WI, Sparta/Fort McCoy, NDB RWY 29, Amdt 4

Sparta, WI, Sparta/Fort McCoy, RNAV (GPS) RWY 11, Amdt 1

Sparta, WI, Sparta/Fort McCoy, Takeoff Minimums and Obstacle DP, Amdt 2

On MAY 04, 2011 (76 FR 25233) the FAA published an Amendment in Docket No. 30779, Amdt 3422 to Part 97 of the Federal Aviation Regulations under section 97.33. The following entries, published in TL 11-11 effective for 30 JUNE 2011, are hereby rescinded:

Anchorage, AK, Merill Field, RNAV (GPS)-A, Amdt 1

Anchorage, AK, Merill Field, Takeoff Minimums and Obstacle DP, Amdt 1

Big Lake, AK, Big Lake, RNAV (GPS) RWY 7, Amdt 1

Big Lake, AK, Big Lake, RNAV (GPS) RWY 25, Amdt 1

Big Lake, AK, Big Lake, Takeoff Minimums and Obstacle DP, Amdt 2

Big Lake, AK, Big Lake, VOR RWY 7, Amdt 7

Galena, AK, Edward G. Pitka Sr, VOR/DME RWY 7, Amdt 7B

Galena, AK, Edward G. Pitka Sr, VOR/DME RWY 25, Amdt 10B

Kenai, AK, Kenai Muni, ILS OR LOC RWY 19R, Amdt 4

Kenai, AK, Kenai Muni, RNAV (GPS) RWY 1L, Amdt 2

Kenai, AK, Kenai Muni, RNAV (GPS) RWY 19R, Amdt 2

Kenai, AK, Kenai Muni, VOR RWY 19R, Amdt 19

Kenai, AK, Kenai Muni, VOR/DME RWY 1L, Amdt 8

Wasilla, AK, Wasilla, Takeoff Minimums and Obstacle DP, Amdt 1

On MAY 16, 2011 (76 FR 28172) the FAA published an Amendment in Docket No. 30781, Amdt 3424 to Part 97 of the Federal Aviation Regulations under section 97.33. The following entries, published in TL 11-12 effective for 30 JUNE 2011, are hereby rescinded:

Anchorage, AK, Ted Stevens Anchorage Intl, ILS OR LOC/DME RWY 7L, ILS RWY 7L (SA CAT I), ILS RWY 7L (CAT II), Amdt 2

Anchorage, AK, Ted Stevens Anchorage Intl, ILS RWY 15, Amdt 5

Anchorage, AK, Ted Stevens Anchorage Intl, RNAV (GPS) RWY 7L, Amdt 2

Anchorage, AK, Ted Stevens Anchorage Intl, RNAV (GPS) RWY 15, Amdt 2

Anchorage, AK, Ted Stevens Anchorage Intl, Takeoff Minimum and Obstacle DP, Amdt 6

Anchorage, AK, Ted Stevens Anchorage Intl, VOR RWY 7R, Amdt 13A, CANCELLED

Kodiak, AK, Kodiak, ILS OR LOC/DME Y RWY 25, Amdt 1A

Kodiak, AK, Kodiak, VOR Y RWY 25, Amdt 1A

Soldotna, AK, Soldotna, NDB RWY 7, Amdt 2

Soldotna, AK, Soldotna, NDB RWY 25, Amdt 3

Soldotna, AK, Soldotna, VOR-A, Amdt 7

On MAY 26, 2011 (76 FR 30536) the FAA published an Amendment in Docket No. 30783, Amdt 3426 to Part 97 of the Federal Aviation Regulations under section 97.33. The following entries, published in TL 11-13 effective for 30 JUNE 2011, are hereby rescinded:

Valdez, AK, Valdez Pioneer Field, LDA/DME-H, Orig-A

[FR Doc. 2011-13955 Filed 6-15-11; 8:45 am]

BILLING CODE 4910-13-P